DEPARTMENT OF HOMELAND SECURITY

[Docket No. DHS-2022-0035]

Homeland Security Advisory Council

AGENCY: The Office of Partnership and Engagement (OPE), The Department of Homeland Security (DHS).

ACTION: Notice of a closed Federal Advisory Committee meeting.

SUMMARY: The Homeland Security Advisory Council (HSAC) will meet virtually on Friday, June 17, 2022. The meeting will be closed to the public.

DATES: The meeting will take place from 10:30 a.m. to 11:15 a.m. ET on Friday, June 17, 2022.

Public participation: The meeting will be closed to the public.

FOR FURTHER INFORMATION CONTACT: Michael Miron at 202-282-8000 or HSAC@hq.dhs.gov.

SUPPLEMENTARY INFORMATION: Notice of this meeting is given under Section 10(a) of the Federal Advisory Committee Act (FACA), Public Law 92-463 (5 U.S.C. Appendix), which requires a portion of each FACA committee meeting to be open to the public unless the President, or the head of the agency to which the advisory committee reports, determines that a portion of the meeting may be closed to the public in accordance with 5 U.S.C. 552b(c).

The HSAC provides organizationally independent, strategic, timely, specific, actionable advice, and recommendations to the Secretary of Homeland Security on matters related to homeland security. The Council consists of senior executives from government, the private sector, academia, law enforcement, and non-governmental organizations.

The HSAC will meet in a closed session from 10:30 a.m. to 11:15 a.m. ET to participate in sensitive discussions with DHS senior leadership regarding DHS Southwest Border operations.

Basis for Closure: In accordance with Section 10(d) of FACA, the Secretary of Homeland Security has determined this meeting must be closed during this session as the disclosure of the information relayed would be detrimental to the public interest for the following reasons:

The HSAC will participate in a sensitive operational discussion containing For Official Use Only and Law Enforcement Sensitive information. This discussion will include information regarding threats facing the United States at the Southwest Border and how DHS plans to address those threats. The session is closed pursuant to 5 U.S.C. 552b(c)(7) and(9)(B).

Dated: May 31, 2022.
Michael J. Miron,
Deputy Executive Director, Homeland Security Advisory Council, Department of Homeland Security.

[FR Doc. 2022-11983 Filed 6-1-22; 8:45 am]

BILLING CODE 9112-FN-P